DEPARTMENT OF HEALTH AND HUMAN SERVICES

Centers for Disease Control and Prevention

[60Day-21-21GA Docket No. CDC-2021-0061]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposal to allow CDC's National Center for HIV/AIDS, Viral Hepatitis, STD, and TB Prevention (NCHHSTP), Division of Adolescent and School Health (DASH) to conduct a research information collection project titled “Teen and Parents Surveys of Health (TAPS)”. This project serves to inform the CDC's Division of Adolescent and School Health's (DASH) key school-based programmatic strategies of improving family- and school-level protective factors, bolstering health education, and increasing adolescent access to quality health services.

DATES: CDC must receive written comments on or before August 31, 2021.

ADDRESSES: You may submit comments, identified by Docket No. CDC-2021-0061 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Teen and Parents Surveys of Health (TAPS)—New—National Center for HIV/AIDS, Viral Hepatitis, STD, and TB Prevention (NCHHSTP), Centers for Disease Control and Prevention (CDC).

Background and Brief Description

The Centers for Disease Control and Prevention (CDC), National Center for HIV/AIDS, Viral Hepatitis, STD, and TB Prevention (NCHHSTP), Division of Adolescent and School Health (DASH) requests approval for “Teen and Parent Surveys of Health (TAPS)” through an existing online panel using NORC at the University of Chicago's AmeriSpeaks panel. Documenting health-related risk behaviors and experiences and health outcomes of young people through routine surveillance is a critical component of DASH's prevention efforts. Another component of DASH's efforts to improve adolescent health is observational research to inform its school-based programmatic strategies. This type of research serves to inform priority settings and sub-populations for intervention as well as specific intervention strategies. TAPS data will allow DASH to refine existing strategies for funded school district partners to improve the quality of their programs and services to prevent HIV, other STDs, and pregnancy among adolescents, as well as improve mental health, sexual health and other adolescent health outcomes (e.g., substance use, violence victimization). Data will be used to inform DASH's key school-based programmatic strategies of improving family- and school-level protective factors, bolstering health education, and increasing adolescent access to quality health services. This observational research complements and extends DASH's ongoing surveillance efforts through the Youth Risk Behavioral Surveillances System (YRBSS) (OMB Control No. 0920-0493, Exp. 11/30/2023), which provides key national estimates of adolescent health risk behaviors and health outcomes, by providing a deeper dive into individual, family, and school factors that positively associate with adolescent behaviors and health outcomes. Collecting this observational data provides the opportunity to examine untested associations of protective factors, health education experiences, and health service use (immediate outcomes of DASH strategies) with mental health, sexual health, and substance use outcomes.

CDC requests approval for an estimated 1,378 annual burden hours. There are no costs to respondents other than their time to participate.

Estimated Annualized Burden Hours
Type of respondents | Form name | Number of respondents | Number of responses per respondent | Average burden per response (in hrs) | Total burden (in hrs)
Parents/Caregivers of 15-17 year olds | Adult/Caregiver Survey | 2,634 | 1 | 20/60 | 878
Adolescent 15-17 year olds | Adolescent Survey | 900 | 1 | 20/60 | 300
Adolescent 18-19 year olds | Adolescent Survey | 600 | 1 | 20/60 | 200
Totals |  |  |  |  | 1,378

Jeffrey M. Zirger,
Lead, Information Collection Review Office, Office of Scientific Integrity, Office of Science, Centers for Disease Control and Prevention.

[FR Doc. 2021-14223 Filed 7-1-21; 8:45 am]

BILLING CODE 4163-18-P